DEPARTMENT OF HEALTH AND HUMAN SERVICES

[Document Identifier OS-0990-0391]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 16, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-0391 and Hospital Preparedness Program Data Collection for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Hospital Preparedness Program.

Type of Collection: Extension.

OMB No.: 0990-0391.

Abstract: The Hospital Preparedness Program (HPP) within the Division of National Healthcare Preparedness Programs (NHPP), in the Office of Emergency Management (OEM), Office of Assistant Secretary for Preparedness and Response (ASPR), in the Department of Health and Human Services is seeking clearance by the Office of Management of Budget (OMB) for an extension on Generic Data Collection Form. The Generic Data Collection Form will serve as the foundation for assessment and evaluation for HPP stakeholders, recipients, and sub-recipient programs and performance under the HPP Cooperative Agreement (CA) Program.

Program data are gathered from recipients for both ad-hoc episodic reporting as well as required reporting as part of the HPP Cooperative Agreement. Ad-hoc reporting includes but is not limited to Coalition Assessment Tool (CAT) Data Collection Tool, Impact Survey, HPP Partner Survey, CA after action reports, Ebola and Other Special Pathogens. Required reporting include Mid-Year and End-of-Year Progress Reports and other similar information collections (ICs) that account for recipient spending and program performance on all activities conducted in pursuit of achieving the HPP Cooperative Agreement goals.

This generic data collection effort is crucial to HPP's decision-making process regarding the continued existence, design and funding levels of this program. Results from these data analyses enable HPP to monitor health care emergency preparedness and progress towards national preparedness and response goals. HPP supports priorities outlined by the National Preparedness Goal (the Goal) established by the Department of Homeland Security (DHS) in 2005.

Estimated Annualized Burden Table
Type of respondent | Number of respondents | Number responses per respondent | Average burden per response (in hours) | Total burden hours
All program recipients with supporting data submitted by sub-recipients and participating HCCs and HPP stakeholders | 62 | 1 | 58 | 3,596
Total | 62 | 1 | 58 | 3,596

Terry Clark,
Asst Paperwork Reduction Act Reports Clearance Officer.

[FR Doc. 2018-15185 Filed 7-16-18; 8:45 am]

BILLING CODE 4150-37-P